NATIONAL SCIENCE FOUNDATION

Sunshine Act Meeting; National Science Board

The National Science Board's ad hoc Committee on Honorary Awards, pursuant to NSF regulations (45 CFR part 614), the National Science Foundation Act, as amended (42 U.S.C. 1862n-5), and the Government in the Sunshine Act (5 U.S.C. 552b), hereby gives notice in regard to the scheduling of a meeting for the transaction of National Science Board business, as follows:

DATE AND TIME: Wednesday, January 21, 2015, at 3:00 p.m. EST

SUBJECT MATTER: Consideration of nominations for honorary awards.

STATUS: Closed.

This meeting will be held by teleconference originating at the National Science Board Office, National Science Foundation, 4201Wilson Blvd., Arlington, VA 22230.

Please refer to the National Science Board Web site (www.nsf.gov/nsb) for information or schedule updates, or contact: Nadine Lymn, National Science Foundation, 4201Wilson Blvd., Arlington, VA 22230. Telephone: (703) 292-7000.

Ann Bushmiller,
NSB Senior Legal Counsel.

[FR Doc. 2015-00518 Filed 1-12-15; 11:15 am]

BILLING CODE 7555-01-P